DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, email paperwork@hrsa.gov or call the HRSA Reports Clearance Office on (301) 443-1984.

The following request has been submitted to the Office of Management and Budget for review under the Paperwork Reduction Act of 1995:

Proposed Project: Area Health Education Centers Project on the Mental and Behavioral Health and Substance Abuse Issues of Veterans/Service Members and Their Families (OMB No. 0915-xxxx)—[New]

The Area Health Education Centers (AHEC) Program consists of interdisciplinary, community-based, primary care training programs where academic and community-based leaders work to improve the distribution, diversity, supply, and quality of health care personnel. The AHEC Program grantees include schools of medicine or osteopathic medicine, incorporated consortiums of such schools, or the parent institutions of such schools. In a state with no AHEC program in operation, a school of nursing is eligible to apply. AHEC grantees contract with community-based AHEC centers to implement educational activities that involve several health professions disciplines and expose students to primary care and the needs of underserved areas and health disparity populations. The training of primary care personnel is a central focus of AHEC programs, where emphasis is placed on training individuals in primary care delivery sites (in both rural and other underserved areas). The AHEC programs and centers, along with state and local partners, implement student training programs, continuing education for healthcare providers, and health careers outreach activities that are responsive to the current healthcare workforce and service needs of underserved areas and health disparity populations of a state or region.

The AHEC Program is implementing a project to provide high quality, culturally competent care to veterans/service members and their families by providing continuing education (CE) to civilian primary care, mental and behavioral health, and other healthcare providers. The purpose of these data collection instruments, including the CE Participant Evaluation Form and the CE Participant Evaluation Follow-Up Form, is to provide data to inform and support the evaluation of the project, assess the extent to which the CE provided affected a provider's clinical or administrative practice, and provide aggregate information about the providers trained and project activities.

The annual estimate of burden is as follows:

Instrument | Number of respondents | Responses per respondent | Total responses | Hours per response | Total burden hours
CE Participant Evaluation Form | 10,000 | 1 | 10,000 | .5 | 5,000
CE Participant Evaluation Follow-Up Form | 2,000 | 1 | 2,000 | .17 | 340
Total | ¹ 10,000 |  |  |  | 5,340
¹ The CE Evaluation Follow-Up Form will only be completed by a sample of the total CE participants. Thus, the 2,000 respondents will not be unique respondents, but instead a sub-set of the CE Participant Evaluation Form respondents.

Written comments and recommendations concerning the proposed information collection should be sent within 30 days of this notice to the desk officer for HRSA, either by email to OIRA_submission@omb.eop.gov or by fax to 202-395-6974. Please direct all correspondence to the “attention of the desk officer for HRSA.”

Dated: February 22, 2012.
Reva Harris,
Acting Director, Division of Policy and Information Coordination.

[FR Doc. 2012-4725 Filed 2-28-12; 8:45 am]

BILLING CODE 4165-15-P